DEPARTMENT OF ENERGY

Federal Energy Regulatory Commission

Notice of Application

December 28, 2006.

Southeast Supply Header, LLC Docket Nos. CP07-45-000

Southeast Supply Header, LLC Docket Nos. CP07-44-000

Southern Natural Gas Company

Southeast Supply Header, LLC Docket Nos. CP07-46-000

Southeast Supply Header, LLC Docket Nos. CP07-47-000

Take notice that on December 18, 2006 Southeast Supply Header, LLC (SESH) filed an application in Docket No. CP07-45-000, requesting a certificate of public convenience and necessity pursuant to section 7 of the Natural Gas Act (NGA) and Subpart A of Part 157 of the Commission's regulations authorizing the Applicants to construct, own, operate, and maintain a new 269-mile natural gas pipeline system commencing in the area of the Perryville Hub near Delhi, Louisiana, continuing in a southeasterly direction through Mississippi and Alabama, and terminating near Coden, Alabama (SESH Project). In addition, SESH requests that the Commission issue to SESH: (i) A blanket certificate in Docket No. CP07-46-000 authorizing SESH to construct, operate, and abandon certain facilities under Part 157, Subpart F of the Commission's regulations; (ii) a blanket certificate in Docket No. CP07-47-000 authorizing SESH to transport natural gas, on an open access and self-implementing basis, under Part 284, Subpart G of the Commission's regulations; and (iii) authorizations necessary to charge initial recourse rates for certain services to be rendered by SESH.

Also take notice that on December 18, 2006, SESH and Southern Natural Gas Company (Southern Natural) filed with the Commission, in Docket No. CP07-44-000, for authorization under section 7 of the NGA and part 157, subpart A of the Commission's regulations to construct, own and operate certain jointly owned facilities which comprise a portion of the SESH Project (Joint Segment).

The application for SESH's and Southern Natural's proposals are more fully described as set forth in the applications that are on file with the Commission and open to public inspection. The instant filings may be also viewed on the Web at http://www.ferc.gov using the “eLibrary” link. Enter the docket number excluding the last three digits in the docket number field to access the document. For assistance, call (866) 208-3676 or TTY, (202) 502-8659.

Any initial questions regarding these applications should be directed to Brian D. O'Neill, LeBoeuf, Lamb, Greene & MacRae LLP. Telephone: (202) 986-8000.

On May 30, 2006, the Commission staff granted SESH's request to utilize the Pre-Filing process and assigned Docket No. PF06-28-000 to staff activities involving the SESH Project. Now, as of the filing of this application on December 18, 2006, the Pre-Filing Process for this project has ended. From this time forward, these proceedings will be conducted in Dockets No. CP07-44-000, CP07-45-000, CP07-46 -000, and CP07-47-000 as noted in the caption of this Notice.

Pursuant to Section 157.9 of the Commission's rules, 18 CFR 157.9 and to ensure compliance with the Energy Policy Act of 2005, the Commission staff will issue a Notice of Schedule for Environmental Review within 90 days of the date of this Notice. The Notice of Schedule for Environmental Review will indicate, among other milestones, the anticipated date for the Commission staff's issuance of the final environmental impact statement (FEIS) for SESH's and Southern Natural's proposal. The Notice will also alert other agencies of the requirement to complete necessary reviews and authorizations within 90 days of the date of issuance of the Commission staff's FEIS.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's web site under the “e-Filing” link. The Commission strongly encourages electronic filings.

Comment Date: January 18, 2007.

Magalie R. Salas,
Secretary.

[FR Doc. E6-22671 Filed 1-5-07; 8:45 am]

BILLING CODE 6717-01-P